DEPARTMENT OF HEALTH AND HUMAN SERVICES

National Institutes of Health

Center for Scientific Review; Amended Notice of Meeting

Notice is hereby given of a change in the meeting of the Center for Scientific Review Special Emphasis Panel, RFA-RM-19-006: NIH Director's New Innovator Award Review (DP2), March 12, 2020 08:00 a.m. to March 13, 2020 07:00 p.m., Hotel Kabuki, 1625 Post Street, San Francisco, CA 94115 which was published in the Federal Register on February 12, 2020, 85 FR 8007.

The meeting location is being changed to National Institutes of Health, 6701 Rockledge Drive, Bethesda, MD 20892, meeting start time is changing to 09:00 a.m. and meeting end time 07:00 p.m. The meeting is closed to the public.

Dated: March 3, 2020.
Miguelina Perez,
Program Analyst, Office of Federal Advisory Committee Policy.

[FR Doc. 2020-04704 Filed 3-6-20; 8:45 am]

BILLING CODE 4140-01-P